DEPARTMENT OF TRANSPORTATION

Federal Highway Administration

Environmental Impact Statement: Suffolk County, NY

AGENCY: Federal Highway Administration (FHWA), DOT.

ACTION: Notice of intent.

SUMMARY: The FHWA is issuing this notice to advise the public that an environmental impact statement will be prepared for proposed highway project in Suffolk County, New York.

FOR FURTHER INFORMATION CONTACT: Thomas F. Oelerich, P.E., Acting Regional Director, State Office Building; 250 Veterans Memorial Highway; Hauppauge, NY 11788; Telephone: (631) 952-6632 or Robert, E. Arnold, Division Administrator, Federal Highway Administration, New York Division, Leo W. O'Brien Federal Building, 7th Floor, Room 719, Clinton Avenue and North Pearl Street, Albany, New York 12207, Telephone: (518) 431-4127.

SUPPLEMENTARY INFORMATION: The FHWA, in cooperation with the New York State Department of Transportation (NYSDOT) will prepare an environmental impact statement (EIS) on a proposal to improve the Northern State Parkway/NYS Route 110 interchange in Suffolk County, New York. The proposed improvement would involve the reconstruction of the existing routes in the Town of Huntington for a distance of about 0.98 miles along Northern State Parkway and 1.65 miles along NYS Route 110. Improvements to this interchange are considered necessary to provide for the existing and projected traffic demand along NYS Route 110 and to address an area with a history of accidents. Also included in this project is the replacement of the Northern State Parkway bridge over NYS Route 110.

Alternatives under consideration include: (1) Taking no action; (2) reconfiguring the Northern State Parkway/NYS Route 110 interchange and replacing the existing Northern State Parkway bridge over NYS Route 110; (3) reconfiguring the Northern State Parkway/NYS Route 110 interchange without replacing the existing Northern State Parkway bridge over NYS Route 110; (4) replacing the Northern State Parkway bridge over NYS Route 110 without reconfiguring the interchange; this would include widening of the Northern State Parkway; and (5) widening NYS Route 110 to a six lane arterial. Incorporated into and studied with the various build alternatives will be design variations of grade and alignment and various intersection improvements.

Letters describing the proposed action and soliciting comments will be sent to appropriate Federal, State, and local agencies, and to private organizations and citizens who have previously expressed interest in this proposal. In addition to scoping discussion with these interested parties, the general public will have the opportunity to make scoping comments both in writing and in person at a Public Information/Scoping Meeting that will be held at the Sunquam Elementary School, 15 Sweet Hollow Road, Melville on March 14, 2002. After the DEIS is prepared, it will available for public and agency review and comment. This will be followed by a public hearing. Public notice will be given of the time and place of the hearings.

To ensure that the full range of issues related to this proposed action are addressed and all significant issues identified, comments and suggestions are invited from all interested parties. Comments or questions concerning this proposed action and the EIS should be directed to the NYSDOT or FHWA at the addressed provided above.

(Catalog of Federal Domestic Assistance Program Number 20.205, Highway Research, Planning and Construction. The regulations implementing Executive Order 12372 regarding intergovernmental consultation on Federal programs and activities apply to this program.)

Authority: 23 U.S.C. 315; CFR 771.123

Issued on: February 27, 2002.
Douglas P. Conlan,
District Operations Engineer, Federal Highway Administration, New York Division, Albany, New York.

[FR Doc. 02-6281 Filed 3-14-02; 8:45 am]

BILLING CODE 4910-22-M